DEPARTMENT OF THE INTERIOR

Bureau of Land Management

[CO-110-1060-DC]

Wild Horse Removal; Colorado

AGENCY: White River Field Office, Bureau of Land Management, Department of the Interior.

ACTION: Rescinding decision for gather of wild horses on West Douglas Herd Area, Colorado;

SUMMARY: The Field Manager for the White River Field Office is rescinding the decision (CO-WRFO-00-133) to gather horses from the West Douglas Herd Area. Rescinding this decision is the result of a lack of funding for the operation. When funding is acquired the Gather plan/Environmental Assessment and a Record of Decision will be reissued.

FOR FURTHER INFORMATION CONTACT: Robert Fowler; White River Field Office; 73544 HWY 64, Meeker, Colorado, 81641; Telephone (970) 878-3601.

James A. Cagney,
White River Field Manager.

[FR Doc. 00-18128 Filed 7-26-00; 8:45 am]

BILLING CODE 4310-JB-M